DEPARTMENT OF TRANSPORTATION

Federal Aviation Administration

14 CFR Part 39

[Docket No. FAA-2014-0252; Directorate Identifier 2013-NM-213-AD]

RIN 2120-AA64

Airworthiness Directives; The Boeing Company Airplanes

AGENCY: Federal Aviation Administration (FAA), DOT.

ACTION: Notice of proposed rulemaking (NPRM).

SUMMARY: We propose to adopt a new airworthiness directive (AD) for The Boeing Company Model 707 airplanes, Model 720 and 720B series airplanes, Model 727 airplanes, and Model 737-100, -200, and -200C series airplanes. This proposed AD was prompted by a report of a fire which originated near the first officer's area and caused extensive damage to the flight deck on a different airplane model. This proposed AD would require replacing the low-pressure oxygen hoses with non-conductive low-pressure oxygen hoses in the flight compartment. We are proposing this AD to prevent inadvertent electrical current from passing through an internal, anti-collapse spring of the low-pressure oxygen hose, which can cause the low-pressure oxygen hose to melt or burn, leading to an oxygen-fed fire and/or smoke in the flight deck.

DATES: We must receive comments on this proposed AD by June 9, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0252; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Susan L. Monroe, Aerospace Engineer, Cabin Safety and Environmental Systems Branch, ANM-150S, FAA, Seattle Aircraft Certification Office (ACO), 1601 Lind Avenue SW., Renton, WA 98057-3356; phone: 425-917-6457; fax: 425-917-6590, email: susan.l.monroe@faa.gov.

SUPPLEMENTARY INFORMATION:

Comments Invited

We invite you to send any written relevant data, views, or arguments about this proposal. Send your comments to an address listed under the ADDRESSES section. Include “Docket No. FAA-2014-0252; Directorate Identifier 2013-NM-213-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report indicating that, on certain The Boeing Company Model 757 airplanes, a fire originated near the first officer's area, which caused extensive damage to the flight deck. A Boeing investigation found that the low pressure flexible hoses in the pressurized flightcrew oxygen system can potentially be conductive because of the anti-kink metallic spring inside the hose. The flight crew oxygen system on The Boeing Company Model 707 airplanes, Model 720 and 720B series airplanes, Model 727 airplanes, and Model 737-100, -200, and -200C series airplanes is almost identical to the system installed on certain Model 757 airplanes. Therefore, Model 707 airplanes, Model 720 and 720B series airplanes, Model 727 airplanes, and Model 737-100, -200, and -200C series airplanes may be subject to the unsafe condition revealed on certain Model 757 airplanes. This proposed AD is being issued to prevent inadvertent electrical current, which can cause the low-pressure flex-hose of a flight crew or supernumerary oxygen system to melt or burn, resulting in oxygen system leakage and smoke or fire.

Related Rulemaking

On March 29, 2010, we issued AD 2010-06-17, Amendment 39-16242 (75 FR 15328, March 29, 2010), applicable to certain Model 757 airplanes. AD 2010-06-17 currently requires inspecting to verify the part number of the low-pressure flex-hoses of the flightcrew and supernumerary oxygen system installed under the oxygen mask stowage box at a flightcrew and supernumerary oxygen mask location and replacing with a new non-conductive low-pressure flex-hose of the oxygen system if necessary. AD 2010-06-17 was prompted by reports of a low-pressure flex-hose of a flightcrew oxygen system that burned through due to inadvertent electrical current from a short circuit in an adjacent audio select panel.

Relevant Service Information

We reviewed Boeing Alert Service Bulletin A3538, dated October 2, 2013; Boeing Alert Service Bulletin 727-35A0031, dated July 18, 2013; and Boeing Alert Service Bulletin 737-35A1140, dated August 28, 2013. For information on the procedures, see this service information at http://www.regulations.gov by searching for Docket No. FAA 2014-0252.

FAA's Determination

We are proposing this AD because we evaluated all the relevant information and determined the unsafe condition described previously is likely to exist or develop in other products of these same type designs.

Proposed AD Requirements

This proposed AD would require accomplishing the actions specified in the service information identified previously.

Costs of Compliance

We estimate that this proposed AD affects 530 airplanes of U.S. registry.

We estimate the following costs to comply with this proposed AD:

Estimated Costs
Action | Labor cost | Parts cost | Cost per product | Cost on U.S. operators
Replace oxygen hoses | Up to 17 work-hours × $85 per hour = $1,445 | $297 | Up to $1,742 | Up to $923,260.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

The Boeing Company: Docket No. FAA-2014-0252; Directorate Identifier 2013-NM-213-AD.

(a) Comments Due Date

We must receive comments by June 9, 2014.

(b) Affected ADs

None.

(c) Applicability

This AD applies to The Boeing Company airplanes identified in paragraphs (c)(1) through (c)(3) of this AD, certificated in any category.

(1) Model 707-100 long body, -200, -100B long body, and -100B short body airplanes; Model 707-300, -300B, -300C, and -400 series airplanes; and Model 720 and 720B series airplanes; as identified in Boeing 707 Alert Service Bulletin A3538, dated October 2, 2013.

(2) Model 727, 727C, 727-100, 727 -100C, 727-200, and 727-200F series airplanes, as identified in Boeing Alert Service Bulletin 727-35A0031, dated July 18, 2013.

(3) Model 737-100, -200, and -200C series airplanes, as identified in Boeing Alert Service Bulletin 737-35A1140, dated August 28, 2013.

(d) Subject

Air Transport Association (ATA) of America Code 35, Oxygen.

(e) Unsafe Condition

This AD was prompted by a report of a fire which originated near the first officer's area and caused extensive damage to the flight deck on a different airplane model. We are issuing this AD to prevent inadvertent electrical current from passing through an internal, anti-collapse spring of the low-pressure oxygen hose, which can cause the low-pressure oxygen hose to melt or burn, leading to an oxygen-fed fire and/or smoke in the flight deck.

(f) Compliance

Comply with this AD within the compliance times specified, unless already done.

(g) Oxygen Hose Replacement

Within 36 months after the effective date of this AD: Replace the low-pressure oxygen hoses in the flight compartment with non-conductive low-pressure oxygen hoses, in accordance with the Accomplishment Instructions of the service bulletin specified in paragraphs (g)(1) through (g)(3) of this AD, as applicable.

(1) For Model 707-100 long body, -200, -100B long body, and -100B short body series airplanes; Model 707-300, -300B, -300C, and -400 series airplanes; and Model 720 and 720B series airplanes: Boeing 707 Alert Service Bulletin A3538, dated October 2, 2013.

(2) For Model 727, 727C, 727-100, 727-100C, 727-200, and 727-200F series airplanes: Boeing Alert Service Bulletin 727-35A0031, dated July 18, 2013.

(3) For Model 737-100, -200, and -200C series airplanes: Boeing Alert Service Bulletin 737-35A1140, dated August 28, 2013.

(h) Parts Installation Prohibition

As of the effective date of this AD, no person may install a low-pressure oxygen hose specified in Table 1 to paragraph (h) of this AD, on any airplane.

Table 1 to Paragraph (h) of This AD—Low-Pressure Oxygen Hoses (P/N)
Boeing specification No. | Hydroflow | B/E aerospace | RE darling (aka REDAR)
10-60174-24 | 37001-642 | Not applicable (n/a) | (n/a)
10-60174-26 | 37001-640 | (n/a) | (n/a)
10-60174-25 | 37001-641 | (n/a) | (n/a)
10-60174-36 | 37001-36 | (n/a) | (n/a)
10-60174-35 | 37001-35 37001-36 | 173470-35 173470-36 ZH833-35 ZH833-36 | 40830-505-018

(i) Alternative Methods of Compliance (AMOCs)

(1) The Manager, Seattle Aircraft Certification Office (ACO), FAA, has the authority to approve AMOCs for The Boeing Company Model 737-100, -200, and -200C series airplanes, covered by this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) The Manager, Los Angeles Aircraft Certification Office (ACO), FAA, has the authority to approve AMOCs for The Boeing Company Model 707 airplanes, Model 720 and 720B series airplanes, and Model 727 airplanes, covered by this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-LAACO-AMOC-REQUESTS@faa.gov.

(3) Before using any approved AMOC, notify your appropriate principal inspector, or lacking a principal inspector, the manager of the local flight standards district office/certificate holding district office.

(j) Related Information

(1) For more information about this AD, Susan L. Monroe, Aerospace Engineer, Cabin Safety and Environmental Systems Branch, ANM-150S, FAA, Seattle Aircraft Certification Office (ACO), 1601 Lind Avenue SW., Renton, WA 98057-3356; phone: 425-917-6457; fax: 425-917-6590; email: susan.l.monroe@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on April 14, 2014.
Jeffrey E. Duven,
Manager, Transport Airplane Directorate, Aircraft Certification Service.

[FR Doc. 2014-09250 Filed 4-22-14; 8:45 am]

BILLING CODE 4910-13-P